DEPARTMENT OF DEFENSE

Department of the Army

Privacy Act of 1974; System of Records

AGENCY: Department of the Army; DoD.

ACTION: Notice to add a system of records.

SUMMARY: The Department of the Army is proposing to add system of records to its existing inventory of records systems subject to the Privacy Act of 1974, (5 U.S.C. 552a), as amended.

DATES: The proposed action will be effective on October 28, 2005 unless comments are received that would result in a contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on September 21, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 22, 2005.
L.M. Bynum,
Alternate OSD Federal Register Liaison Officer, Department of Defense.

A0025-2c SAIS DoD

System name:

Department of Defense Detainee Biometric Information System.

System location:

Department of Defense Biometrics Fusion Center, 347 West Main Street, Clarksburg, WV 26306-2947.

Categories of individuals covered by the system:

Individuals in the custody of the Department of Defense as a result of military operations overseas, to include enemy combatants, enemy prisoners of war, and civilian internees, that have been determined to be U.S. citizens or aliens lawfully admitted to the United States for permanent residence.

Categories of records in the system:

Individual's name, Social Security Number, biometrics templates, biometric images, supporting documents, and biographic information including, but not limited to, date of birth, place of birth, height, weight, eye color, hair color, race, gender, and similar relevant information.

Authority for maintenance of the system:

10 U.S.C. 3013, Secretary of the Army; 10 U.S.C. 5013, Secretary of the Navy; 10 U.S.C. 8013, Secretary of the Air Force; Department of Defense Directive 8500.1, Information Assurance (IA); DoD Instruction 8500.2, Information Assurance Implementation; Army Regulation 25-2, Information Assurance; and E.O. 9397 (SSN).

Purpose(s):

To identify or verify the identity of individuals, who are detained due to overseas military operations, by using a measurable physical or behavioral characteristic.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

Name, Social Security Number, biometric template, and other biometric data.

Safeguards:

Computerized records maintained in a controlled area are accessible only to authorized personnel. Physical and electronic access is restricted to designated individuals having a need for access in the performance of official duties.

Retention and Disposal:

Destroy when no longer needed.

System Manager(s) and Address:

Director, Department of Defense Biometrics Management Office, 2530 Crystal Drive, Arlington, VA 22202-3934.

Notification Procedure:

Individuals seeking to determine whether information about themselves is contained in this system should address written inquiries to the Director, Department of Defense Biometrics Management Office, 2530 Crystal Drive, Arlington, VA 22202-3934.

Written requests should include the individual's full name, current address, and home telephone number.

Record Access Procedures:

Individuals seeking access to information about themselves contained in this system should address written inquiries to the Director, Department of Defense Biometrics Management Office, 2530 Crystal Drive, Arlington, VA 22202-3934.

Written requests should include the individual's full name, current address, and home telephone number.

Contesting Record Procedures:

The Army's rules for accessing records, and for contesting contents and appealing initial agency determinations are contained in Army Regulation 340-21; 32 CFR part 505; or may be obtained from the system manager.

Record Source Categories:

From the individual, system managers, and computer facility managers.

Exemptions Claimed for the System:

None.

[FR Doc. 05-19327 Filed 9-27-05; 8:45 am]

BILLING CODE 5001-06-M